DEPARTMENT OF ENERGY

Federal Energy Regulatory Commission

[Docket Nos. OR06-2-000; IS06-70-000; IS06-63-000; IS06-71-000; IS06-66-000; IS06-47-000]

Anadarko Petroleum Corporation, Tesoro Corporation, and Tesoro Alaska Company v. TAPS Carriers, BP Pipelines (Alaska) Inc., ConocoPhillips, Transportation Alaska, Inc., ExxonMobil Pipeline Company, Koch Alaska Pipeline Company LLC, Unocal Pipeline Company; Notice of Complaint

December 19, 2005.

Take notice that on December 14, 2005, Anadarko Petroleum Corporation, Tesoro Corporation, and Tesoro Alaska Company (collectively, Anadarko/Tesoro) filed a protest, complaint, motion to intervene, motion to consolidate, and request for hearing and other relief, against BP Pipelines (Alaska) Inc., ConocoPhillips Transportation Alaska, Inc., ExxonMobil Pipeline Company, Koch Alaska Pipeline Company LLC, and Unocal Pipeline Company (collectively, TAPS Carriers), pursuant to Rules 206, 211, 212, and 214 of the Commission's Rules of Practice and Procedures and sections 8, 9, 13, 15, and 16 of the Interstate Commerce Act , and the Commission's oil pipeline regulations at 18 CFR 343. Anadarko/Tesoro allege that the rates filed by TAPS Carriers for oil transportation on the TAPS are unjust, unreasonable, and unduly discriminatory under the ICA, and the Commission should suspend those rates, declare those rates subject to refund, initiate hearing procedures, establish just and reasonable rates as required by the ICA, and grant Anadarko/Tesoro refunds, reparations, damages (with interest), and other appropriate relief. Anadarko/Tesoro request that the Commission consolidate this protest and complaint with the ongoing proceedings concerning the TAPS Carriers' rates in Docket Nos. IS05-82 et al.

Anadaro/Tesoro states that copies of the complaint were served on the designated contacts for BP Pipelines (Alaska), Inc. ConocoPhillips Transportation Alaska, Inc., ExxonMobile Pipeline Compnay, Koch Alaska Pipeline Company LLC., and Unocal Pipeline Company as listed in the individual company tariff filings, as well as on all persons on the official Commission service list.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on January 3, 2006.

Magalie R. Salas,
Secretary.

[FR Doc. E5-7920 Filed 12-27-05; 8:45 am]

BILLING CODE 6717-01-P